DEPARTMENT OF ENERGY

Federal Energy Regulatory Commission

Combined Notice of Filings #2

Take notice that the Commission received the following electric rate filings:

Docket Numbers: ER14-1578-000, ER14-2544-000.

Applicants: PacifiCorp.

Description: Motion of PacifiCorp to Modify Effective Date of Tariff Provisions and Request for a Limited Waiver.

Filed Date: 9/16/14.

Accession Number: 20140916-5214.

Comments Due: 5 p.m. ET 9/22/14.

Docket Numbers: ER14-2300-001.

Applicants: Public Service Company of New Mexico.

Description: Tariff Amendment per 35.17(b): Response to deficiency letter to be effective 8/29/2014.

Filed Date: 9/17/14.

Accession Number: 20140917-5127.

Comments Due: 5 p.m. ET 10/8/14.

Docket Numbers: ER14-2522-001.

Applicants: MATL LLP.

Description: Compliance filing per 35: Compliance with Order 792—Refile to be effective 8/1/2014.

Filed Date: 9/17/14.

Accession Number: 20140917-5133.

Comments Due: 5 p.m. ET 10/8/14.

Docket Numbers: ER14-2533-001.

Applicants: MATL LLP.

Description: Tariff Amendment per 35.17(b): Amended Filing for Proposed Language to be effective 8/1/2014.

Filed Date: 9/17/14.

Accession Number: 20140917-5128.

Comments Due: 5 p.m. ET 10/8/14.

Docket Numbers: ER14-2894-000.

Applicants: Bounce Energy NY, LLC.

Description: § 205(d) rate filing per 35.13(a)(2)(iii): Normal filing to be effective 9/17/2014.

Filed Date: 9/17/14.

Accession Number: 20140917-5134.

Comments Due: 5 p.m. ET 10/8/14.

Docket Numbers: ER14-2895-000.

Applicants: New York Independent System Operator, Inc.

Description: § 205(d) rate filing per 35.13(a)(2)(iii): NYISO 205 filing of tariff revision to sharing information of gas pipeline to be effective 11/17/2014.

Filed Date: 9/17/14.

Accession Number: 20140917-5135.

Comments Due: 5 p.m. ET 10/8/14.

Docket Numbers: ER14-2896-000.

Applicants: Bounce Energy PA, LLC.

Description: § 205(d) rate filing per 35.13(a)(2)(iii): Normal filing to be effective 9/17/2014.

Filed Date: 9/17/14.

Accession Number: 20140917-5143.

Comments Due: 5 p.m. ET 10/8/14.

Docket Numbers: ER14-2897-000.

Applicants: Direct Energy Business, LLC.

Description: § 205(d) rate filing per 35.13(a)(2)(iii): Normal filing to be effective 9/17/2014.

Filed Date: 9/17/14.

Accession Number: 20140917-5155.

Comments Due: 5 p.m. ET 10/8/14.

Docket Numbers: ER14-2898-000.

Applicants: Direct Energy Marketing Inc.

Description: § 205(d) rate filing per 35.13(a)(2)(iii): Normal filing to be effective 9/17/2014.

Filed Date: 9/17/14.

Accession Number: 20140917-5156.

Comments Due: 5 p.m. ET 10/8/14.

Docket Numbers: ER14-2899-000.

Applicants: Direct Energy Services, LLC.

Description: § 205(d) rate filing per 35.13(a)(2)(iii): Normal filing to be effective 9/17/2014.

Filed Date: 9/17/14.

Accession Number: 20140917-5157.

Comments Due: 5 p.m. ET 10/8/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 17, 2014.
Nathaniel J. Davis, Sr.,
Deputy Secretary.

[FR Doc. 2014-23222 Filed 9-29-14; 8:45 am]

BILLING CODE 6717-01-P